DEPARTMENT OF COMMERCE

Notice of Record of Decision for Louisiana Regional Restoration Planning Program

AGENCY: National Oceanic and Atmospheric Administration (NOAA), Commerce.

SUMMARY: The National Oceanic and Atmospheric Administration (NOAA), an agency of the U.S. Department of Commerce, has prepared a Record of Decision (ROD) regarding the January 5, 2007, final Programmatic Environmental Impact Statement (PEIS) for the Louisiana Regional Restoration Planning Program (RRP Program). The ROD has been written pursuant to § 102(2)(c) of the National Environmental Policy Act (NEPA) of 1969 (42 U.S.C. 4321 et seq.), regulations promulgated by the Council on Environmental Quality (40 CFR part 1505.2), and the NOAA Administrative Order on implementing environmental review procedures (NAO 216-6). The ROD is a concise statement of the management planning and environmental impact analysis process completed, the alternatives considered, and the basis for the selection of preferred alternative. The notice of availability for the final PEIS was published in the Federal Register on January 5, 2007, with the close of the mandatory waiting period on February 20, 2007. No comments were received on the final PEIS.

It is the decision of the NOAA, along with the Department of the Interior and the State of Louisiana, to implement the Louisiana RRP Program using the methods evaluated in the PEIS. Because the analysis is programmatic in nature, site and injury-specific features will dictate which restoration alternatives are most appropriate for individual injuries. All practicable means to avoid or minimize environmental harm from the RRP Program alternative selected have been adopted.

FOR FURTHER INFORMATION: Questions regarding the PEIS and ROD and requests for copies of these documents should be addressed to either: Karolien Debusschere, Deputy Coordinator, Louisiana Oil Spill Coordinator's Office, Office of the Governor, 150 Third Street, Suite 405, Baton Rouge, Louisiana, 70801; 225/219-5800; e-mail address: Karolien.Debusschere@la.gov, or Tony Penn, Southeast Branch Chief, NOAA, Assessment and Restoration Division, 1305 East-West Highway, SSMC #4, 10th floor, Silver Spring, MD 20910; fax number 301/713-4387; e-mail address: Tony.Penn@noaa.gov.

The PEIS and Record of Decision are available via the Internet at http://www.darrp.noaa.gov/southeast/rrpp-la/ and http://www.losco.state.la.us/admin/RRP/RRPprogram_view.asp.

Dated: May 15, 2007.
Ken Barton,
Director, Office of Response and Restoration, National Ocean Service, National Oceanic and Atmospheric Administration.

[FR Doc. E7-9940 Filed 5-22-07; 8:45 am]

BILLING CODE 3510-JE-P